DEPARTMENT OF THE INTERIOR

National Park Service

[NPS-WASO-NAGPRA-NPS0038737; PPWOCRADN0-PCU00RP14.R50000]

Notice of Intended Disposition: U.S. Department of Agriculture Forest Service, Cherokee National Forest, Cleveland, TN

AGENCY: National Park Service, Interior.

ACTION: Notice.

SUMMARY: In accordance with the Native American Graves Protection and Repatriation Act (NAGPRA), the U.S. Department of Agriculture Forest Service, Cherokee National Forest intends to carry out the disposition of human remains and associated funerary objects removed from Federal or Tribal lands to the lineal descendants, Indian Tribe, or Native Hawaiian organization with priority for disposition in this notice.

DATES: Disposition of the human remains and cultural items in this notice may occur on or after October 21, 2024. If no claim for disposition is received by September 22, 2025, the human remains and cultural items in this notice will become unclaimed human remains or cultural items.

ADDRESSES: Dr. Danielle Shelton, Heritage Program Manager, USDA Forest Service, Cherokee National Forest, 2800 Ocoee Street North, Cleveland, TN 37312, telephone (423) 582-6059, email stephanie.shelton@usda.gov.

SUPPLEMENTARY INFORMATION: This notice is published as part of the National Park Service's administrative responsibilities under NAGPRA. The determinations in this notice are the sole responsibility of the Cherokee National Forest, and additional information on the human remains and cultural items in this notice, including the results of consultation, can be found in the related records. The National Park Service is not responsible for the identifications in this notice.

Abstract of Information Available

Based on the information available, human remains representing, at least, one individual has been reasonably identified. The 2,036 associated funerary objects are beads, pottery, faunal remains, botanical remains, charcoal, soil, floatation materials, and unidentified materials. Lake Hole Burial Cave (40JN159), located in Johnson County, Tennessee, was the site of protohistoric Cherokee cave burials, dated between 1550-1650 CE, that were discovered and looted by grave robbers in the spring of 1990. Nine men were prosecuted under the Archaeological Resources Protection Act (ARPA) and a minimum number of 100 individuals were recovered. Afterwards the Cherokee National Forest installed a locked gate on the cave entrance, but on October 16, 2006, two men entered the cave illegally and disturbed two more individual burials. Although the human remains from Lake Hole Burial Cave were repatriated in 2009, there are two teeth and one small bone that were overlooked during repatriation, as well as the associated funerary objects.

Determinations

The Cherokee National Forest has determined that:

• The human remains described in this notice represent the physical remains of one individual of Native American ancestry.

• The 2,036 objects described in this notice are reasonably believed to have been placed intentionally with or near individual human remains at the time of death or later as part of the death rite or ceremony.

• The Cherokee Nation; Eastern Band of Cherokee Indians; and the United Keetoowah Band of Cherokee Indians in Oklahoma have priority for disposition of the human remains and cultural item described in this notice.

Claims for Disposition

Written claims for disposition of the human remains and cultural items in this notice must be sent to the appropriate official identified in this notice under ADDRESSES. If no claim for disposition is received by September 22, 2025, the human remains and cultural items in this notice will become unclaimed human remains and cultural items. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains and cultural items in this notice may occur on or after October 21, 2024. If competing claims for disposition are received, the Forest Service must determine the most appropriate claimant prior to disposition. Requests for joint disposition of the human remains or cultural items are considered a single request and not competing requests. The Forest Service is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: September 12, 2024.
Melanie O'Brien,
Manager, National NAGPRA Program.

[FR Doc. 2024-21540 Filed 9-19-24; 8:45 am]

BILLING CODE 4312-52-P